DEPARTMENT OF ENERGY

Federal Energy Regulatory Commission

[Project No. 14105-000]

Kahawai Power 4, LLC; Notice of Preliminary Permit Application Accepted for Filing and Soliciting Comments, Motions To Intervene, and Competing Applications

On March 1, 2011, Kahawai Power 4, LLC, filed an application for a preliminary permit, pursuant to section 4(f) of the Federal Power Act (FPA), proposing to study the feasibility of the Kekaha Waimea Water Power Project, which would utilize water flows from the existing Kekaha Ditch Irrigation System near the town of Waimea, Kauai County, Hawaii. The sole purpose of a preliminary permit, if issued, is to grant the permit holder priority to file a license application during the permit term. A preliminary permit does not authorize the permit holder to perform any land-disturbing activities or otherwise enter upon lands or waters owned by others without the owners' express permission.

The proposed project would consist of the following: (1) A 30-foot by 8-foot intake structure on the existing Kekaha ditch; (2) a 2,180-foot-long, 36-inch-diameter steel penstock (sections to be buried); (3) a 40-foot-long by 55-foot-wide powerhouse containing a single 1.5-megawatt turbine generator with a maximum hydraulic capacity of 50 cubic-feet-per-second, and an adjacent substation; (4) a 35-foot-long, 10-foot-wide tailrace channel that discharges project flows to the Waimea River; (5) a new 610-foot-long, gravel road to access the powerhouse location; (6) a 2-mile-long, 69-kilovolt transmission line interconnecting the project's substation to the existing Kaumakani substation; and (7) appurtenant facilities. The estimated annual generation of the Kekaha Waimea Water Power Project would be 8.7 gigawatt-hours.

Applicant Contact: Mr. Daniel R. Irvin, Free Flow Power Corporation, 239 Causeway Street, Boston, Massachusetts 02114; Phone: (978) 252-7631; e-mail: dirvin@free-flow-power.com.

FERC Contact: Kenneth Hogan; phone: (202) 502-6211; e-mail: Kenneth.hogan@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at: http://www.ferc.gov/docs-filing/elibrary.asp. Enter the docket number (P-14105) in the docket number field to access the document. For assistance, contact FERC Online Support.

Dated: March 23, 2011.
Kimberly D. Bose,
Secretary.

[FR Doc. 2011-7350 Filed 3-28-11; 8:45 am]

BILLING CODE 6717-01-P